COMMISSION ON CIVIL RIGHTS

Notice of Public Meeting of the Washington Advisory Committee

AGENCY: U.S. Commission on Civil Rights.

ACTION: Announcement of meetings.

SUMMARY: Notice is hereby given, pursuant to the provisions of the rules and regulations of the U.S. Commission on Civil Rights (Commission) and the Federal Advisory Committee Act that the Washington Advisory Committee (Committee) will hold a series of meetings via web teleconference on the dates and times listed below for the purpose of reviewing the latest draft of their report on police use of force and barriers to accountability.

DATES: These meetings will be held on:

• Wednesday, September 8, 2021, from 1:30 p.m.-3:00 p.m. Pacific Time

• Tuesday, September 28, 2021, from 12:00 p.m.-1:30 p.m. Pacific Time

• Wednesday, October 13, 2021, from 2:00 p.m.-3:30 p.m. Pacific Time

• Tuesday, November 2, 2021, from 1:30 p.m.-3:00 p.m. Pacific Time

• Wednesday, December 1, 2021, from 1:30 p.m.-3:00 p.m. Pacific Time

• Tuesday, December 14, 2021, from 12:00 1:30 p.m. Pacific Time

September 8th PUBLIC WEBEX REGISTRATION LINK: https://tinyurl.com/4c6xw35m

September 28th PUBLIC WEBEX REGISTRATION LINK: https://tinyurl.com/93ccfkc9

October 13th PUBLIC WEBEX REGISTRATION LINK: https://tinyurl.com/2yhy6d37

November 2nd PUBLIC WEBEX REGISTRATION LINK: https://tinyurl.com/yesrus3h

December 1st PUBLIC WEBEX REGISTRATION LINK: https://tinyurl.com/37axray6

December 14th PUBLIC WEBEX REGISTRATION LINK: https://tinyurl.com/yjj5whrf

FOR FURTHER INFORMATION CONTACT: Brooke Peery, Designated Federal Officer (DFO), at bpeery@usccr.gov or by phone at (202) 701-1376.

SUPPLEMENTARY INFORMATION: Members of the public may listen to the discussion. This meeting is available to the public through the public WebEx registration link listed above. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Members of the public are also entitled to submit written comments; the comments must be received in the Regional Programs Unit within 30 days following the meeting. Written comments may be emailed to Brooke Peery at bpeery@usccr.gov. Persons who desire additional information may contact the Regional Programs Unit Office/Advisory Committee Management Unit at (202) 701-1376.

Records generated from this meeting may be inspected and reproduced at the Regional Programs Unit Office, as they become available, both before and after the meeting. Records of the meeting will be available at: https://www.facadatabase.gov/FACA/FACAPublicViewCommitteeDetails?id=a10t0000001gzkZAAQ

Please click on the “Meeting Details” and “Documents” links. Persons interested in the work of this Committee are also directed to the Commission's website, http://www.usccr.gov, or may contact the Regional Programs Unit office at the above email address.

Agenda

I. Welcome & Roll Call

II. Approval of Minutes

III. Discussion of Report Draft

IV. Public Comment

V. Adjournment

Dated: August 9, 2021.
David Mussatt,
Supervisory Chief, Regional Programs Unit.

[FR Doc. 2021-17270 Filed 8-11-21; 8:45 am]

BILLING CODE P